DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, DoD announces that the Defense Health Board (DHB) will meet November 1 and 2, 2010, in Arlington, VA.

DATES: The meeting will be held on the following dates and times—

November 1, 2010

8 a.m.-8:45 a.m. (Closed, Administrative Working Meeting)

9 a.m.-12:30 p.m. (Open Session)

12:30 p.m.-1:30 p.m. (Closed, Administrative Working Meeting)

1:30 p.m.-5 p.m. (Open Session)

November 2, 2010

8 a.m.-8:45 a.m. (Closed, Administrative Working Meeting)

9 a.m.-11:45 a.m. (Open Session)

11:45 a.m.-12:45 p.m. (Closed, Administrative Working Meeting)

12:45 p.m.-2 p.m. (Open Session)

ADDRESSES: The meeting will be held at the Key Bridge Marriott, 1401 Lee Highway, Arlington, VA 22209.

FOR FURTHER INFORMATION CONTACT: Ms. Christine Bader, Director, Defense Health Board, Five Skyline Place, 5111 Leesburg Pike, Suite 810, Falls Church, Virginia 22041-3206, (703) 681-8448, Ext. 1215, Fax: (703) 681-3317, Christine.bader@tma.osd.mil.

SUPPLEMENTARY INFORMATION: Additional information, agenda updates, and meeting registration are available online at the Defense Health Board Web site, http://www.ha.osd.mil/dhb. The public is encouraged to register for the meeting.

Purpose of the Meeting

The purpose of the meeting is to address and deliberate pending and new Board issues and provide briefings for Board members on topics related to ongoing Board business.

Agenda

On November 1 and 2, 2010, the DHB will receive briefings on military health needs and priorities. The following Defense Health Board Subcommittees will present updates to the Board: Department of Defense Task Force on the Prevention of Suicide by Members of the Armed Forces, Psychotropic Medication and Complementary and Alternative Medicine Use Work Groups, and Military Occupational/Environmental Health and Medical Surveillance. Additionally, the Board will receive information briefings regarding Walter Reed National Military Medical Center, Joint Pathology Center, the National Intrepid Center of Excellence, the Department of Defense H5N1 Influenza Report, and Department of Defense Response to Evidence-Based Metrics Recommendations. The Board will vote on recommendations regarding proposed revisions to fluid resuscitation in tactical evacuation care.

Pursuant to 5 U.S.C. 552b, as amended, and 41 CFR 102-3.140 through 102-3.165 and subject availability of space, the Defense Health Board meeting on November 1, 2010 from 9 a.m. to 12:30 p.m. and from 1:30 p.m. to 5 p.m. and November 2, 2010 from 9 a.m. to 11:45 a.m. and from 12:45 p.m. to 2 p.m. is open to the public.

Written Statements

Any member of the public wishing to provide input to the Defense Health Board should submit a written statement in accordance with 41 CFR 102-3.140(c) and section 10(a)(3) of the Federal Advisory Committee Act, and the procedures described in this notice. Written statements should address the following details: The issue, discussion, and a recommended course of action. Supporting documentation may also be included as needed to establish the appropriate historical context and to provide any necessary background information.

Individuals desiring to submit a written statement may do so through the Board's Designated Federal Officer (see FOR FURTHER INFORMATION CONTACT) at any point. If the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Written statements may be mailed to the address under FOR FURTHER INFORMATION CONTACT, e-mailed to dhb@ha.osd.mil or faxed to (703) 681-3317.

Special Accommodations

If special accommodations are required to attend (sign language, wheelchair accessibility) please contact Ms. Lisa Jarrett at (703) 681-8448 ext. 1280 by October 22, 2010.

Dated: September 24, 2010.
Mitchell S. Bryman,
Alternate OSD Federal Register Liaison Officer, Department of Defense.

[FR Doc. 2010-24429 Filed 9-28-10; 8:45 am]

BILLING CODE 5001-06-P